DEPARTMENT OF STATE

[Public Notice: 10316]

Determination Under Section 620(q) of the Foreign Assistance Act of 1961, Relating to Assistance to Antigua and Barbuda

Pursuant to the authority vested in me by section 620(q) of the Foreign Assistance Act of 1961 (FAA) and Executive Order 12163, I hereby determine that assistance to Antigua and Barbuda is in the national interest of the United States and waive the application of section 620(q) of the FAA with respect to such assistance.

This Determination shall be published in the Federal Register and, with the accompanying Memorandum of Justification, shall be transmitted to the Congress.

Rex W. Tillerson,
Secretary of State.

[FR Doc. 2018-03499 Filed 2-20-18; 8:45 am]

BILLING CODE 4710-29-P